DEPARTMENT OF THE INTERIOR

Fish and Wildlife Service

[FWS-R7-ES-2023-0097; FF07CAMM00.FX.ES111607MRG02; OMB Control Number 1018-0066]

Agency Information Collection Activities; Marine Mammal Marking, Tagging, and Reporting Certificates, and Registration of Certain Dead Marine Mammal Hard Parts

AGENCY: Fish and Wildlife Service, Interior.

ACTION: Notice of information collection; request for comment.

SUMMARY: In accordance with the Paperwork Reduction Act of 1995, we, the U.S. Fish and Wildlife Service (Service), are proposing to renew an information collection without change.

DATES: Interested persons are invited to submit comments on or before September 25, 2023.

ADDRESSES: Send your comments on the information collection request (ICR) by one of the following methods (reference “1018-0066” in the subject line of your comment):

• Internet (preferred): https://www.regulations.gov. Follow the instructions for submitting comments on Docket No. FWS-R7-ES-2023-0097.

• Email: Info_Coll@fws.gov.

• U.S. mail: Service Information Collection Clearance Officer, U.S. Fish and Wildlife Service, 5275 Leesburg Pike, MS: PRB (JAO/3W), Falls Church, VA 22041-3803.

FOR FURTHER INFORMATION CONTACT: To request additional information about this ICR, contact Madonna L. Baucum, Service Information Collection Clearance Officer, by email at Info_Coll@fws.gov, or by telephone at (703) 358-2503. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: In accordance with the Paperwork Reduction Act of 1995 (PRA, 44 U.S.C. 3501 et seq.) and 5 CFR 1320.8(d)(1), we provide the general public and other Federal agencies with an opportunity to comment on new, proposed, revised, and continuing collections of information. This helps us assess the impact of our information collection requirements and minimize the public's reporting burden. It also helps the public understand our information collection requirements and provide the requested data in the desired format.

As part of our continuing effort to reduce paperwork and respondent burdens, we are again soliciting comments from the public and other Federal agencies on the proposed ICR that is described below. We are especially interested in public comment addressing the following:

(1) Whether or not the collection of information is necessary for the proper performance of the functions of the agency, including whether or not the information will have practical utility;

(2) The accuracy of our estimate of the burden for this collection of information, including the validity of the methodology and assumptions used;

(3) Ways to enhance the quality, utility, and clarity of the information to be collected; and

(4) How might the agency minimize the burden of the collection of information on those who are to respond, including through the use of appropriate automated, electronic, mechanical, or other technological collection techniques or other forms of information technology, e.g., permitting electronic submission of response.

Comments that you submit in response to this notice are a matter of public record. Before including your address, phone number, email address, or other personal identifying information in your comment, you should be aware that your entire comment—including your personal identifying information—may be made publicly available at any time. While you can ask us in your comment to withhold your personal identifying information from public review, we cannot guarantee that we will be able to do so.

Abstract: Under section 101(b) of the Marine Mammal Protection Act of 1972, as amended (MMPA; 16 U.S.C. 1361-1407), Alaska Natives residing in Alaska and dwelling on the coast of the North Pacific or Arctic Oceans may harvest polar bears, northern sea otters, and Pacific walruses for subsistence or handicraft purposes. Section 109(i) of the MMPA authorizes the Secretary of the Interior to prescribe marking, tagging, and reporting regulations applicable to the Alaska Native subsistence and handicraft take.

On behalf of the Secretary, we implemented regulations at 50 CFR 18.23(f) for Alaska Natives harvesting polar bears, northern sea otters, and Pacific walruses. These regulations enable us to gather data on the Alaska Native subsistence and handicraft harvest and on the biology of polar bears, northern sea otters, and Pacific walruses in Alaska to determine what effect such take may be having on these populations. The regulations also provide us with a means of monitoring the disposition of the harvest to ensure that any commercial use of products created from these species meets the criteria set forth in section 101(b) of the MMPA.

We collect harvest information related to Alaska Native harvest to provide a chronology of the harvest in population modeling, determining which cohorts are being killed, determining the status of populations, and predicting population trends. We will use the collected information to gain insight into the distribution and relative abundance of the three species, the level and intensity of the harvest, and the harvest impacts on the species and their subpopulations. We use three Service forms to collect the following information from Alaska Natives as part of the harvest reporting requirement:

A. Form 3-2414, “Polar Bear Tagging Certificates”: Form 3-2414 collects the following information:

• Date and location of tagging;

• Hide and skull tag number;

• Village hunted from (if different from tagging location);

• Age class and sex;

• Whether sex could be verified by tagger and, if yes, sex identification information;

• Skull measurements (length, width, or not provided);

• Whether cubs were present with sow and, if yes, how many cubs;

• Bear condition (obese, average, skinny);

• Specimens collected (tooth, hair, skin, liver, fat, muscle, skin/muscle, baculum/penis bone, or other);

• Research marks/tags (collar, ear tag number, lip tattoo, or other);

• Date and location of kill (to include latitude/longitude);

• Whether it was a conflict or problem bear and whether it was taken in defense of life;

• Additional remarks; and

• Whether hunter is available for post-hunt interview and, if yes, phone number, with the following post-hunt interview questions for problem bear situations:

a. Was there a food source/attractant that the bear was interested in? What was the attractant?

b. Was there any attempt to haze the bear to get it to leave?

c. Was it believed that the bear could be a threat to people?

Note: We would only ask these typical post-hunt questions if the biologist needed information on a bear that was marked as a problem bear. There is no standardized questioning.

B. Form 3-2415, “Walrus Tagging Certificates”: Form 3-2415 collects the following information:

• Date and location of tagging;

• Village hunted from (if different than tagging location);

• Marine Mammals Management Marking, Tagging, and Reporting Program (MTRP) tag number of plastic-headed wire tag used for left or right tusk;

• Type of take for walrus (LK = live killed, BF = beach found)—This information increases the accuracy of the known mortality and harvest data by discriminating between a walrus killed for subsistence purposes or found dead and salvaged. Requiring all ivory that has been taken or collected (pursuant to the Alaska Native exemption) to be marked, tagged, and reported simplifies Service enforcement efforts.

• Date and location killed/found;

• Age and sex;

• Walrus tusk length and circumference;

• Number of walrus harvested without tusks; and

• Additional remarks.

C. Form 3-2416, “Sea Otter Tagging Certificates”: Form 3-2416 collects the following information:

• Date and location of tagging;

• Hide and skull tag number;

• FWS permit number;

• Age class and sex;

• Details identification information;

• Specimens collected (tooth, muscle vial, whisker, carcass, or other);

• Number of otters present in pod and number harvested from pod;

• Date and location of kill (to include latitude and longitude); and

• Additional remarks.

We also require non-Native collectors to use Form 3-2406, “Non-Native Marine Mammal Certificates.” The collection of information via Form 3-2406 allows the Service to track individuals who register (within 30 days) beach-found hard parts to determine whether the take of marine mammal hard parts is legal. We use the below listed information collected via Form 3-2406 to verify whether it is legal for the individual to retain them:

• Date and location of tagging;

• MTRP tag number of plastic-headed wire tag used for left or right tusk;

• Date found;

• Age and sex;

• Tusk circumference at gum line and tusk length from gum line to tip along front side following the curve of the tusk;

• Exact location of kill or find;

• Tag number for skull (polar bear or sea otter) or other part;

• Any information of interest about the beach-found hard part collected;

• Other remarks; and

• Name, address, phone number, and date of birth of the person who collected the hard part.

You may request copies of all forms in this information collection by submitting a request to the Service Information Collection Clearance Officer, using one of the methods identified in the ADDRESSES section of this notice.

Title of Collection: Marine Mammal Marking, Tagging, and Reporting Certificates, and Registration of Certain Dead Marine Mammal Hard Parts, 50 CFR 18.23(f) and 18.26.

OMB Control Number: 1018-0066.

Form Number: Forms 3-2406, 3-2414, 3-2415, and 3-2416.

Type of Review: Extension of a currently approved collection.

Respondents/Affected Public: Individuals and households.

Respondent's Obligation: Required to obtain or retain a benefit.

Frequency of Collection: On occasion.

Total Estimated Annual Nonhour Burden Cost: None.

Requirement | Average number of annual respondents | Average number of responses each | Average number of annual responses | Average completion time per response | Estimated annual burden hours *
Form 3-2406, “Non-Native Marine Mammal Tagging Certificate” (Individuals) | 200 | 1 | 200 | 15 minutes | 50
Form 3-2414, “Polar Bear Tagging Certificate” (Individuals) | 20 | 1.5 | 30 | 15 minutes | 8
Form 3-2415, “Walrus Tagging Certificate” (Individuals) | 90 | 3.3 | 300 | 15 minutes | 75
Form 3-2416, “Sea Otter Tagging Certificate” (Individuals) | 60 | 25 | 1,500 | 15 minutes | 375
Totals | 370 |  | 2,030 |  | 508
* Rounded.

An agency may not conduct or sponsor and a person is not required to respond to a collection of information unless it displays a currently valid OMB control number.

The authority for this action is the Paperwork Reduction Act of 1995 (44 U.S.C. 3501 et seq.).

Madonna Baucum,
Information Collection Clearance Officer, U.S. Fish and Wildlife Service.

[FR Doc. 2023-15829 Filed 7-25-23; 8:45 am]

BILLING CODE 4333-15-P